DEPARTMENT OF COMMERCE

International Trade Administration

[C-570-921]

Lightweight Thermal Paper From the People's Republic of China: Rescission of Countervailing Duty Administrative Review: 2018

AGENCY: Enforcement and Compliance, International Trade Administration, Department of Commerce.

SUMMARY: The Department of Commerce (Commerce) is rescinding the administrative review of the countervailing duty (CVD) order on certain lightweight thermal paper (thermal paper) from the People's Republic of China (China) for the period of review (POR) January 1, 2018 through December 31, 2018, based on the timely withdrawal of the requests for review.

DATES: Applicable April 6, 2020.

FOR FURTHER INFORMATION CONTACT: Dusten Hom, AD/CVD Operations, Office I, Enforcement and Compliance, International Trade Administration, U.S. Department of Commerce, 1401 Constitution Avenue NW, Washington, DC 20230; telephone: (202) 482-5075.

SUPPLMENTARY INFORMATION:

Background

On November 1, 2019, Commerce published a notice of opportunity to request an administrative review of the CVD order on thermal paper from China for the POR of January 1, 2018, through December 31, 2018.¹ Commerce received a timely-filed request from Appvion, Inc. (Appvion) for an administrative review of Sailing International Limited, Shenzhen Formers Printing Co., Ltd., Suzhou Xiandai Paper Production Co., Dong Nam Pack, Gold Shengpu Paper Products (Suzhou), Xiamen ATP Technology Co., Ltd., Gold Huasheng Paper (Suzhou IP) Co., Henan Jianghe Paper Co. Ltd., Wuxi Honglinxin International Trade, Shenzhen HDB Network Technology, Jinan Fuzhi Paper Co., Ltd., Avery Dennison (China) Co., Ltd., Pax Technology Limited, Shenzhen Speedy Import & Export Co., Ltd., SYCDA Company Limited, and Prosper (HK) Co., Ltd., in accordance with section 751(a) of the Tariff Act of 1930, as amended (the Act), and 19 CFR 351.213(b).²

¹ See Antidumping or Countervailing Duty Order, Finding, or Suspended Investigation; Opportunity To Request Administrative Review, 84 FR 58690 (November 1, 2019).

² See letter from Appvion, “Lightweight Thermal Paper from the People's Republic of China; Request for Administrative Review,” dated December 2, 2019.

On February 6, 2020, pursuant to these requests and in accordance with 19 CFR 351.221(c)(1)(i), Commerce published a notice initiating an administrative review of the countervailing duty order on thermal paper from China with respect to all of the companies for which Appvion had requested the review.³ On March 26, 2020, Appvion withdrew its request for an administrative review with respect to all of the companies for which Commerce had initiated the review.⁴

³ See Initiation of Antidumping and Countervailing Duty Administrative Reviews, 85 FR 6896 (February 6, 2020).

⁴ See letter from Appvion, “Lightweight Thermal Paper from the People's Republic of China/Withdrawal for Request for Administrative Review,” dated March 26, 2020.

Rescission of Review

Pursuant to 19 CFR 351.213(d)(1), Commerce will rescind an administrative review, in whole or in part, if the party or parties that requested a review withdraws the request within 90 days of the publication date of the notice of initiation of the requested review. Appvion withdrew its request for review of all companies that were subject to the review within the requisite 90 days. No other parties requested an administrative review of the order. Therefore, in accordance with 19 CFR 351.213(d)(1), we are rescinding this review in its entirety.

Assessment

Commerce will instruct U.S. Customs and Border Protection (CBP) to assess countervailing duties on all appropriate entries of thermal paper from China. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction. Note that Commerce has temporarily modified certain of its requirements for serving documents containing business proprietary information, until May 19, 2020, unless extended.⁵

⁵ See Temporary Rule Modifying AD/CVD Service Requirements Due to COVID-19, 85 FR 17006 (March 26, 2020).

This notice is issued and published in accordance with sections 751(a)(1) and 777(i)(1) of the Act, and 19 CFR 351.213(d)(4).

Dated: March 31, 2020.
James Maeder,
Deputy Assistant Secretary for Antidumping and Countervailing Duty Operations.

[FR Doc. 2020-07148 Filed 4-3-20; 8:45 am]

BILLING CODE 3510-DS-P